ENVIRONMENTAL PROTECTION AGENCY

[FRL-7234-9]

National Environmental Laboratory Accreditation Conference Meeting

AGENCY: Environmental Protection Agency.

ACTION: Notice of national meeting and field activities.

SUMMARY: The Environmental Protection Agency and the Florida Department of Environmental Protection are co-hosting the Eighth Annual Meeting of the National Environmental Laboratory Accreditation Conference (NELAC), a state-federal partnership with private sector participation. NELAC is expanding its scope to include accreditation standards for organizations performing sampling or conducting field analyses, which would be used to demonstrate compliance with EPA regulations. EPA strongly encourages participation from both public and private sector individuals, and organizations with expertise in environmental sampling and laboratory testing, to strengthen the development of NELAC standards. Draft standards are available on the National Environmental Laboratory Accreditation Conference website at www.epa.gov/ttn/nelac.

DATES: The conference will be held July 7-12, 2002. Training classes will be held on July 7th, 8th and the morning of July 9th. The opening session will convene at 12:30 pm on July 9th. All other meetings will convene between 8-9 a.m. and adjourn at 5 p.m., except Friday, July 12th, when the meeting will adjourn at 1:30 pm.

ADDRESSES: The meeting will be held at the Wyndam Harbour Island Hotel, 725 S. Harbour Island Boulevard, Tampa, Florida.

FOR FURTHER INFORMATION CONTACT: Conference arrangements are being coordinated by the Florida Department of Environmental Protection in conjunction with the University of Florida. For information on registration, hotel rates, transportation, and reservations, go to the University of Florida web site at http://www.treeo.ufl.edu/nelac/ or call Janet Touchton at the University of Florida at 352-392-9570 to receive a brochure.

Proposed Field Sampling Standards: NELAC proposes to establish consensus uniform standards for environmental sampling and other field activities. The EPA invites comments on the scope and content of sampling standards from organizations which conduct sampling as well as other interested parties. A draft proposed General Sampling Standard may be viewed at the NELAC website at: http://www.epa.gov/ttn/nelac/propstan.html under NELAC Files and Documents, Proposed Standards, “NELAC 8 Proposed Changes to Chapter 7: Field Activities”, 5/21/02. The agency also invites recommendations for methods to implement a general sampling standard, as well as related field standards. Since the creation of NELAC, there has been a commitment to also establish standards for sampling and field measurement, since these activities are critical to the environmental measurement process. NELAC is committed to maintaining consistency with international standards related to laboratory accreditation. ISO 17025, promulgated by the International Organization for Standardization, contains standards for sampling as well as testing. In order to maintain consistency with the ISO standards, NELAC intends to adopt a general sampling standard. The proposed standard, mentioned above, is considered to be consistent with ISO 17025. The proposal to adopt field standards is a significant expansion of scope which potentially can involve a much larger collection of organizations. With this notice the Agency invites comments on (1) the proposal to establish such standards (2) the potential costs, and (3) the value of uniform field standards, for organizations doing sampling, their clients, data users, and other parties. The Proposed Standards will be discussed and voted on for adoption at the NELAC 8th Annual Meeting.

SUPPLEMENTARY INFORMATION: In 1992 an EPA chartered federal advisory committee recommended that a national environmental laboratory accreditation program be established. At the same time, the committee recognized the need for accreditation standards for field sampling and analysis. The committee recommended that the initial step be to establish a national laboratory accreditation program before expanding to sampling and other field activities.

EPA established the National Environmental Laboratory Accreditation Conference (NELAC) as a result of the committee's deliberations. NELAC has successfully developed and implemented standards for the laboratory community. Currently 12 state programs have accredited over 900 laboratories in 45 states.

NELAC provides the opportunity for the entire sampling and analytical community to voice their concerns, provide advice based on their professional experience, and effect positive changes to the NELAC standards. Among those who are encouraged to attend, in addition to the laboratory community, are those who deal directly with field activities, e.g., state and federal regulatory officials, engineering firms, regulated industry, samplers, and other affected parties.

John G. Lyon,
Director, Environmental Sciences Division, National Environmental Research Laboratory.

[FR Doc. 02-15617 Filed 6-19-02; 8:45 am]

BILLING CODE 6560-50-P